DEPARTMENT OF LABOR

Employment and Training Administration

[TA-W-82,346]

Whirlpool Corporation, Including On-Site Leased Workers From Aerotek/Tek Systems (Subcontractor of IBM Corporation) and Jones Lang LaSalle for Smith, Arkansas; Amended Certification Regarding Eligibility To Apply for Worker Adjustment Assistance

In accordance with Section 223 of the Trade Act of 1974, as amended (“Act”), 19 U.S.C. 2273, the Department of Labor issued a Certification of Eligibility to Apply for Worker Adjustment Assistance on May 10, 2013, applicable to workers of Whirlpool Corporation, including on-site leased workers from Aerotek/Tek Systems (subcontractor of IBM Corporation), Fort Smith, Arkansas. The Department's notice of determination was published in the Federal Register on May 30, 2013 (Volume 78 FR Pages 32464-32467).

At the request of the State Workforce Office, the Department reviewed the certification for workers of the subject firm. The workers were engaged in production of refrigerators and trash compactors as well as decommissioning work for the facility closure.

The state reports that workers leased from Jones Lang LaSalle were employed on-site at the Fort Smith, Arkansas location of Whirlpool Corporation. The Department has determined that these workers were sufficiently under the control of the subject firm to be considered leased workers.

Based on these findings, the Department is amending this certification to include workers leased from Jones Lang LaSalle working on-site at the Fort Smith, Arkansas location of Whirlpool Corporation.

The amended notice applicable to TA-W-82,346 is hereby issued as follows:

All workers of Whirlpool Corporation, including on-site leased workers from Aerotek/Tek Systems (subcontractor of IBM Corporation) and Jones Lang LaSalle, Fort Smith, Arkansas, who became totally or partially separated from employment on or after October 7, 2012 through May 10, 2015, and all workers in the group threatened with total or partial separation from employment on the date of certification through May 10, 2015, are eligible to apply for adjustment assistance under Chapter 2 of Title II of the Trade Act of 1974, as amended.

Signed in Washington, DC this 2nd day of July, 2013.
Michael W. Jaffe,
Certifying Officer, Office of Trade Adjustment Assistance.

[FR Doc. 2013-17118 Filed 7-16-13; 8:45 am]

BILLING CODE 4510-FN-P